DEPARTMENT OF THE INTERIOR

Bureau of Ocean Energy Management

[Docket No. BOEM-2016-0038]

Environmental Assessment for Commercial Wind Lease Issuance and Site Assessment Activities on the Atlantic Outer Continental Shelf (OCS) Offshore New York; MMAA104000

AGENCY: Bureau of Ocean Energy Management (BOEM), Interior.

ACTION: Notice of availability.

SUMMARY: BOEM is announcing the availability of an Environmental Assessment (EA) for commercial wind lease issuance, site characterization activities (geophysical, geotechnical, archaeological, and biological surveys), and site assessment activities (including the installation and operation of a meteorological tower and/or buoys) on the Atlantic OCS offshore New York. The EA considers the potential impacts of the proposed action and an analysis of reasonable alternatives to the proposed action (excluding the area within two nautical miles of the traffic separation schemes, and no action). This Notice of Availability (NOA) also serves to announce the beginning of the public comment period on the EA. The EA and associated information are available on BOEM's Web site at http://www.boem.gov/New-York/.

Should a lessee propose to construct a commercial wind facility through submission of a Construction and Operations Plan, BOEM would conduct a separate site- and project-specific National Environmental Policy Act (NEPA) analysis, likely an Environmental Impact Statement, and would provide additional opportunities for public involvement pursuant to NEPA and the CEQ regulations at 40 CFR parts 1500-1508.

DATES: Comments on this EA will be accepted until July 6, 2016. See public meeting dates in the SUPPLEMENTARY INFORMATION section below.

FOR FURTHER INFORMATION CONTACT: Michelle Morin, BOEM Office of Renewable Energy Programs, 45600 Woodland Road, Sterling, Virginia 20166, (703) 787-1340 or michelle.morin@boem.gov.

SUPPLEMENTARY INFORMATION:

Public Availability: BOEM will consider public comments on the EA in determining whether to issue a Finding of No Significant Impact, or conduct additional analysis under NEPA. Federal, state, tribal, and local governments and/or agencies and the public may submit written comments on this EA through the following methods:

1. Federal eRulemaking Portal: http://www.regulations.gov. In the field entitled “Enter Keyword or ID,” enter BOEM-2016-0038, and then click “search.” Follow the instructions to submit public comments and view supporting and related materials available for this notice;

2. In written form, delivered by hand or by mail, enclosed in an envelope labeled “Commercial Wind Lease Issuance and Site Assessment Activities on the Atlantic Outer Continental Shelf Offshore New York Environmental Assessment” and addressed to Program Manager, Office of Renewable Energy, Bureau of Ocean Energy Management, 45600 Woodland Road, Sterling, Virginia 20166. Comments must be received or postmarked no later than July 6, 2016.

Before including your address, phone number, email address or other personal identifying information in your comment, you should be aware that your entire comment, including your personal identifying information, may be made publicly available at any time. While you can ask us in your comments to withhold your personal identifying information from public review, we cannot guarantee that we will be able to do so.

Public Meetings: BOEM will also hold public meetings to explain the proposed activities analyzed in the EA and to provide additional opportunity for public comment on the EA. The meetings are scheduled as follows:

• Monday June 20, 2016; Long Branch Middle School (Auditorium), 404 Indiana Avenue, Long Branch, New Jersey 07740; 6:00-8:00 p.m.

• Tuesday June 21, 2016; Hofstra University (MPR Room), 900 Fulton Avenue, Hempstead, New York 11549; 6:00-8:00 p.m.

• Wednesday, June 22, 2016; Westhampton Beach High School, 49 Lilac Road, Westhampton Beach, New York 11978; 6:00-8:00 p.m.

• Thursday, June 23, 2016; University of Rhode Island, Narragansett Bay Campus, Coastal Institute Building (Hazard Rooms A & B), 215 S Ferry Road, Narragansett, Rhode Island 02882; 6:00-8:00 p.m.

Authority: This Notice of Availability (NOA) is published pursuant to the regulations (43 CFR 46.305) implementing the provisions of the National Environmental Policy Act (NEPA) of 1969, as amended (42 U.S.C. 4321 et seq. (1988)).

Dated: May 31, 2016.
Abigail Ross Hopper,
Director, Bureau of Ocean Energy Management.

[FR Doc. 2016-13170 Filed 6-3-16; 8:45 am]

BILLING CODE 4310-MR-P